DEPARTMENT OF AGRICULTURE

Agricultural Marketing Service

[Docket Number FV-05-303]

United States Standards for Grades of Bunched Italian Sprouting Broccoli

AGENCY: Agricultural Marketing Service, USDA.

ACTION: Notice.

SUMMARY: The Agricultural Marketing Service (AMS), prior to undertaking research and other work associated with revising official grade standards, is soliciting comments on the possible revisions to the United States Standards for Grades of Bunched Italian Sprouting Broccoli. At a 2003 meeting with the Fruit and Vegetable Industry Advisory Committee, AMS was asked to review all the fresh fruit and vegetable grade standards for usefulness in serving the industry. As a result, AMS has identified broccoli crowns and florets for possible inclusion into the standards. Additionally, AMS is seeking comments regarding any other revisions of the broccoli grade standards that may be necessary to better serve the industry.

DATES: Comments must be received by June 20, 2005.

ADDRESSES: Interested persons are invited to submit written comments to the Standardization Section, Fresh Products Branch, Fruit and Vegetable Programs, Agricultural Marketing Service, U.S. Department of Agriculture, 1400 Independence Ave. SW., Room 1661 South Building, Stop 0240, Washington, DC 20250-0240; Fax (202) 720-8871, E-mail FPB.DocketClerk@usda.gov. Comments should make reference to the dates and page number of this issue of the Federal Register and will be made available for public inspection in the above office during regular business hours. The United States Standards for Grades of Bunched Italian Sprouting Broccoli is available either at the above address or by accessing the Fresh Products Branch Website at: http://www.ams.usda.gov/standards/stanfrfv.htm.

FOR FURTHER INFORMATION CONTACT: David L. Priester, at the above address or call (202) 720-2185; E-mail David.Priester@usda.gov.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices * * *.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by the USDA/AMS/Fruit and Vegetable Programs.

AMS is proposing to revise the U.S. Standards for Grades of Bunched Italian Sprouting Broccoli using the procedures that appear in Part 36, Title 7 of the Code of Federal Regulations (7 CFR Part 36). These standards were last revised in 1943.

Background

At a 2003 meeting with the Fruit and Vegetable Industry Advisory Committee, AMS was asked to review all the fresh fruit and vegetable grade standards for usefulness in serving the industry. AMS has identified the United States Standards for Grades of Bunched Italian Sprouting Broccoli for a possible revision. As a result, AMS has identified the currently marketed forms of Italian Sprouting Broccoli crowns and florets for possible inclusion into the standards. These terms are used by the industry in the marketing of broccoli in which the main stem is cut back considerably or in the case of florets where only a single smaller secondary stem remains with the large main stem removed. The new terms will be defined and sizes for the terms standardized and included in the U.S. standards. The title of the standard would be modified by deleting “Bunched,” to make the standards generic to cover crowns and florets. Additionally, references to the word “bunched” would be removed from the current sections of U.S. grades to the section pertaining to size specifications. The section entitled “Unclassified” would also be removed from the standards to help eliminate confusion concerned with this designation. However, prior to undertaking detailed work to develop proposed revisions to the standards, AMS is soliciting comments on the possible revision to the standards and the probable impact on distributors, processors, and growers. Additionally, AMS is seeking comments regarding any other revisions that may be necessary to better serve the industry.

This notice provides for a 60-day comment period for interested parties to comment on changes to the standards. Should AMS conclude that there is a need for the revisions of the standards, the proposed revisions will be published in the Federal Register with a request for comments in accordance with 7 CFR Part 36.

Authority: 7 U.S.C. 1621-1627.

Dated: April 15, 2005.
Kenneth C. Clayton,
Acting Administrator.

[FR Doc. 05-8025 Filed 4-20-05; 8:45 am]

BILLING CODE 3410-02-P